DEPARTMENT OF HEALTH AND HUMAN SERVICES

National Institutes of Health

Interagency Coordinating Committee on the Validation of Alternative Methods; Notice of Public Meeting; Request for Public Input

SUMMARY: The Interagency Coordinating Committee on the Validation of Alternative Methods (ICCVAM) will hold a public forum to share information and facilitate direct communication of ideas and suggestions from stakeholders. Interested persons may attend in person or via teleconference and time will be set aside for public statements and questions on the topics discussed.

DATES: Meeting: June 25, 2014, 1:00 p.m. to approximately 4:00 p.m. Eastern Daylight Time (EDT).

Registration for Meeting: May 7, 2014 through June 11, 2014.

Deadline for Submission of Oral Public Statements: June 11, 2014

ADDRESSES: Meeting Location: William H. Natcher Conference Center, National Institutes of Health, Bethesda, MD 20892.

Meeting Web page: The preliminary agenda, registration, and other meeting materials are at http://ntp.niehs.nih.gov/go/41490.

FOR FURTHER INFORMATION CONTACT: Dr. Warren S. Casey, Director, National Toxicology Program Interagency Center for the Evaluation of Alternative Toxicological Methods (NICEATM); email: warren.casey@nih.gov; telephone: (919) 316-4729.

SUPPLEMENTARY INFORMATION: Background: ICCVAM promotes the development and validation of chemical safety testing methods that protect human health and the environment while replacing, reducing, or refining animal use.

In 2013, ICCVAM published a draft plan (http://ntp.niehs.nih.gov/go/iccvam-mission) focused on addressing advances in toxicological science while reflecting the needs and priorities of its partner regulatory agencies and improving communications with the public, including holding public forums to facilitate direct communication with its stakeholders.

The first of these forums will be held on June 25, 2014, at the National Institutes of Health in Bethesda, MD. The meeting will begin with presentations by NICEATM and ICCVAM members on current activities including (1) evaluation of nonanimal methods to identify potential skin sensitizers and eye irritants, (2) interactions with international validation organizations, and (3) revisions to ICCVAM processes. Following each presentation, there will be an opportunity for attendees to ask questions. The agenda also includes time for attendees to make public oral statements to inform ICCVAM on topics relevant to its mission and current activities.

Preliminary Agenda and Other Meeting Information: The preliminary agenda, ICCVAM roster, background materials, and public statements submitted prior to the meeting will be posted at http://ntp.niehs.nih.gov/go/41490 to allow participation by remote attendees. Public statements will be distributed to NICEATM and ICCVAM members.

Meeting and Registration: This meeting is open to the public with time scheduled for oral public statements and for questions following ICCVAM's and NICEATM's presentations; attendance is limited only by the space available. Participants are encouraged to register at http://ntp.niehs.nih.gov/go/41490 by June 11, 2014 to facilitate planning for appropriate meeting space. Interested individuals are encouraged to visit this Web page to stay abreast of the most current meeting information.

Visitor and security information is available at http://www.nih.gov/about/visitor/index.htm. Individuals with disabilities who need accommodation to participate in this event should contact Dr. Elizabeth Maull at phone: (919) 316-4668 or email: maull@niehs.nih.gov. TTY users should contact the Federal TTY Relay Service at 800-877-8339. Requests should be made at least five business days in advance of the event.

Request for Oral Public Statements: Time will be allotted during the meeting for oral public statements with associated slides relevant to ICCVAM's mission and current activities. The number and length of presentations may be limited based on available time. Speakers are asked to submit a copy of their statement and/or associated slides by June 11, 2014 to allow time for posting to the meeting page and review by NICEATM and ICCVAM members. Submitters will be identified by their name and affiliation and/or sponsoring organization, if applicable. Persons submitting public statements and/or associated slides should include their name, affiliation (if any), mailing address, telephone, email, and sponsoring organization (if any) with the document. Registration for oral public statements will be available onsite, although onsite registration and time allotted for these statements may be limited based on the number of individuals who register for comments and available time.

For remote participation, 50 teleconference lines will be available on a first-come, first-served basis. The teleconference access number will be provided to registrants by email prior to the meeting.

Responses to this notice are voluntary. No proprietary, classified, confidential, or sensitive information should be included in comments submitted in response to this notice or during the meeting. This request for input is for planning purposes only and is not a solicitation for applications or an obligation on the part of the U.S. Government to provide support for any ideas identified in response to the request. Please note that the U.S. Government will not pay for the preparation of any information submitted or for its use of that information.

Background Information on ICCVAM and NICEATM: ICCVAM is an interagency committee composed of representatives from 15 Federal regulatory and research agencies that require, use, generate, or disseminate toxicological and safety testing information. ICCVAM conducts technical evaluations of new, revised, and alternative safety testing methods and integrated testing strategies with regulatory applicability and promotes the scientific validation and regulatory acceptance of testing methods that both more accurately assess the safety and hazards of chemicals and products and replace, reduce, or refine (enhance animal well-being and lessen or avoid pain and distress) animal use.

The ICCVAM Authorization Act of 2000 (42 U.S.C. 285l-3) establishes ICCVAM as a permanent interagency committee of the NIEHS and provides the authority for ICCVAM involvement in activities relevant to the development of alternative test methods. ICCVAM acts to ensure that new and revised test methods are validated to meet the needs of Federal agencies, increase the efficiency and effectiveness and Federal agency test method review, and optimize utilization of scientific expertise outside the Federal Government. Additional information about ICCVAM can be found at http://ntp.niehs.nih.gov/go/iccvam.

NICEATM administers ICCVAM, provides scientific and operational support for ICCVAM-related activities, and conducts independent validation studies to assess the usefulness and limitations of new, revised, and alternative test methods and strategies. NICEATM and ICCVAM work collaboratively to evaluate new and improved test methods and strategies applicable to the needs of U.S. Federal agencies. NICEATM and ICCVAM welcome the public nomination of new, revised, and alternative test methods and strategies for validation studies and technical evaluations. Additional information about NICEATM can be found at http://ntp.niehs.nih.gov/go/niceatm.

Dated: April 24, 2014.
John R. Bucher,
Associate Director, National Toxicology Program.

[FR Doc. 2014-10015 Filed 5-1-14; 8:45 am]

BILLING CODE 4140-01-P